DEPARTMENT OF THE INTERIOR

National Park Service

Notice of Inventory Completion: U.S. Department of Defense, Army Corps of Engineers-Memphis District, Memphis, TN; U.S. Department of the Interior, Fish and Wildlife Service-Southeast Region, Savannah, GA; and Arkansas Archeological Survey, University of Arkansas, Fayetteville, AR

Agency: National Park Service, Interior.

Action: Notice.

Notice is here given in accordance with the Native American Graves Protection and Repatriation Act (NAGPRA), 25 U.S.C. 3003, of the completion of an inventory of human remains and associated funerary objects in the control of the U.S. Department of Defense, Army Corps of Engineers-Memphis District, Memphis, TN, and U.S. Department of the Interior, Fish and Wildlife Service-Southeast Region, Savannah, GA; and in the possession of the Arkansas Archeological Survey, University of Arkansas, Fayetteville, AR. The human remains and associated funerary objects were removed from Mississippi County, AR.

This notice is published as part of the National Park Service's administrative responsibilities under NAGPRA, 25 U.S.C. 3003 (d) (3). The determinations in this notice are the sole responsibility of the museum, institution, or Federal Agency that has control of the Native American human remains and associated funerary objects. The National Park Service is not responsible for the determinations in this notice.

A detailed assessment of the human remains was made by Arkansas Archeological Survey, University of Arkansas, and U.S. Army Corps of Engineers-Memphis District professional staff in consultation with representatives of the Absentee-Shawnee Tribe of Indians of Oklahoma; Alabama-Quassarte Tribal Town, Oklahoma; Chickasaw Nation, Oklahoma; Choctaw Nation of Oklahoma; Mississippi Band of Choctaw Indians, Mississippi; Muscogee (Creek) Nation, Oklahoma; Osage Tribe, Oklahoma; Quapaw Tribe of Indians, Oklahoma; Thlopthlocco Tribal Town, Oklahoma; and United Keetoowah Band of Cherokee Indians in Oklahoma.

Between 1969 and 1976, human remains representing a minimum of 35 individuals were removed from the Zebree site (3MS20), Mississippi County, AR, during a planned excavation by the U.S. Army Corps of Engineers-Memphis District. The human remains were transferred to and continue to be curated at the University of Arkansas Collections Facility in Fayetteville, AR. No known individuals were identified. The two associated funerary objects are a Neeley's Ferry plain bottle and a fish effigy bowl. An unspecified number of shell beads associated with one individual were documented as “lost in the field.”

The Zebree site, originally discovered in 1967, is listed on the National Register of Historic Places as the Zebree Homestead and is located in the U.S. Fish and Wildlife Service Big Lake National Wildlife Refuge. The site was a major village site in Arkansas. The Big Lake phase component at Zebree was superimposed directly upon a Dunklin phase occupation. Archeological evidence indicates that the human remains and associated funerary objects date to the Early (circa A.D. 900-1100) and Middle Mississippian (circa A.D. 1100-1300). Oral history evidence presented by representatives of the Quapaw Tribe of Indians, Oklahoma indicates that the region including Mississippi County has long been included in the traditional and hunting territory of the Quapaw. Historical documents, specifically French colonial documents and maps circa A.D. 1673-1720, indicate that only the Quapaw had villages in eastern Arkansas and the area of northeastern Arkansas was used as hunting territory.

Officials of the U.S. Army Corps of Engineers-Memphis District and U.S. Fish and Wildlife Service-Southeast Region have determined that, pursuant to 25 U.S.C. 3001 (9-10), the human remains described above represent the physical remains of a minimum of 35 individuals of Native American ancestry. Officials of the U.S. Army Corps of Engineers-Memphis District and U.S. Fish and Wildlife Service-Southeast Region also have determined that, pursuant to 25 U.S.C. 3001 (3)(A), the two objects described above are reasonably believed to have been placed with or near the individual human remains at the time of death or later as part of the death rite or ceremony. Lastly, officials of the U.S. Army Corps of Engineers-Memphis District and U.S. Fish and Wildlife Service-Southeast Region have determined that, pursuant to 25 U.S.C. 3001 (2), there is a relationship of shared group identity that can be reasonably traced between the Native American human remains and associated funerary objects and the Quapaw Tribe of Indians, Oklahoma.

Representatives of any other Indian tribe that believes itself to be culturally affiliated with the human remains and associated funerary objects should contact Richard S. Kanaski, Regional Historic Preservation Office, U.S. Fish and Wildlife Service-Southeast Region, Savannah Coastal Refuges, 1000 Business Center Drive, Suite 10, Savannah, GA 31405, telephone (912) 652-4415, ext. 113, before August 7, 2006. Repatriation of the human remains and associated funerary objects to the Quapaw Tribe of Indians, Oklahoma, may proceed after that date if no additional claimants come forward.

The U.S. Fish and Wildlife Service-Southeast Region is responsible for notifying the Absentee-Shawnee Tribe of Indians of Oklahoma; Alabama-Quassarte Tribal Town, Oklahoma; Chickasaw Nation, Oklahoma; Choctaw Nation of Oklahoma; Mississippi Band of Choctaw Indians, Mississippi; Muscogee (Creek) Nation, Oklahoma; Osage Tribe, Oklahoma; Quapaw Tribe of Indians, Oklahoma; Thlopthlocco Tribal Town, Oklahoma; and United Keetoowah Band of Cherokee Indians in Oklahoma that this notice has been published.

Dated: June 7, 2006.
Sherry Hutt,
Manager, National NAGPRA Program.

[FR Doc. E6-10514 Filed 7-5-06; 8:45 am]

BILLING CODE 4312-50-S